NUCLEAR REGULATORY COMMISSION

Notice of Correction to Biweekly Notice Applications and Amendments to Operating Licenses Involving No Significant Hazards Considerations

On June 28, 2000, the Federal Register published the Biweekly Notice of Applications and Amendments to Operating Licenses Involving No Significant Hazards Consideration. On page 39961, under Southern Nuclear Operating Company, Inc., et al., Docket Nos. 50-424 and 50-425, the Date of amendment request should have been March 6, 2000.

Dated at Rockville, Maryland, this 14th day of July, 2000.
For the Nuclear Regulatory Commission.
John A. Zwolinski,
Director, Division of Licensing Project Management, Office of Nuclear Reactor Regulation.

[FR Doc. 00-18423 Filed 7-19-00; 8:45 am]

BILLING CODE 7590-01-P